DEPARTMENT OF ENERGY

Federal Energy Regulatory Commission

[Docket No. PF07-11-000]

North Baja Pipeline, LLC; Notice of Intent to Prepare an Environmental Assessment for the Proposed Yuma Lateral Project and Request for Comments on Environmental Issues

January 4, 2008.

The staff of the Federal Energy Regulatory Commission (FERC or Commission) will prepare an environmental assessment (EA) that will discuss the environmental impacts of the proposed Yuma Lateral Project involving construction and operation of natural gas facilities by North Baja Pipeline, LLC (North Baja) in Yuma County, Arizona. The EA will be used by the Commission in its decision-making process to determine whether the project is in the public convenience and necessity.

This notice announces the opening of the scoping process the Commission will use to gather input from the public and interested agencies on the project. Your input will help determine which issues need to be evaluated in the EA. Please note that the scoping period will close on February 4, 2008. Details on how to submit comments are provided in the Public Participation section of this notice.

If you are a landowner receiving this notice, you may be contacted by a pipeline company representative about the acquisition of an easement to construct, operate, and maintain the proposed facilities. North Baja would seek to negotiate a mutually acceptable agreement. However, if the project is approved by the Commission, that approval conveys with it the right of eminent domain. Therefore, if easement negotiations fail to produce an agreement, North Baja could initiate condemnation proceedings in accordance with state law.

This notice is being sent to affected landowners; federal, state, and local government representatives and agencies; elected officials; Native American tribes; other interested parties; and local libraries and newspapers. State and local government representatives are asked to notify their constituents of this proposed project and to encourage them to comment on their areas of concern.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

The Yuma Lateral Project would involve construction of approximately 3.3 miles of 12-inch-diameter pipeline from the international border at the Colorado River to the Yucca Power Plant, also in Yuma County, Arizona. An additional 3.1 miles would be constructed in Mexico. A meter station would be constructed at the Yucca Power Plant along with a pig receiver. The majority of the Yuma Lateral would be constructed on public lands, primarily a Bureau of Reclamation (BOR) canal right-of-way (ROW). The majority of the proposed pipeline ROW route is co-located immediately adjacent to an existing railroad ROW.

The purpose of the proposed project is to provide the Yucca Power Plant with access to existing and future power generation needs. Gas would be shipped from Sempra's Gasoducto Bajanorte pipeline through a new 3.1-mile-long lateral in Mexico to the international border, from which 81,250 Dth/day of gas would be shipped via the Yuma Lateral to supply the Yucca Power Plant.

The general location of the proposed project is shown in Appendix 1.¹

¹ The appendices referenced in this notice are not being printed in the Federal Register. Copies are available on the Commission's Internet Web site (http://www.ferc.gov) at the “eLibrary” link or from the Commission's Public Reference Room at (202) 502-8371. For instructions on connecting to eLibrary, refer to the “Additional Information” section at the end of this notice. Copies of the appendices were sent to all those receiving this notice in the mail. Requests for detailed maps of the well locations and other proposed facilities should be made directly to North Baja.

Land Requirements for Construction

Construction of the proposed project would affect a total of about 29.5 acres during construction. Following construction, about 21.0 acres would be allowed to revert to its previous conditions. Disturbance associated with aboveground facilities would permanently impact 0.5 acre of land.

North Baja proposes a typical construction ROW for the proposed pipeline of between 52 and 80 feet, which is 32 to 60 feet of temporary workspace and 20 feet of permanent ROW.

The EA Process

We ² are preparing this EA to comply with the National Environmental Policy Act (NEPA) which requires the Commission to take into account the environmental impact that could result if it authorizes North Baja's proposal. By this notice, we are also asking federal, state, and local agencies with jurisdiction and/or special expertise with respect to environmental issues to formally cooperate with us in the preparation of the EA. Agencies that would like to request cooperating status should follow the instructions for filing comments provided below.

² “We,” “us,” and “our” refer to the environmental staff of the FERC's Office of Energy Projects.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA.

The EA will discuss impacts that could occur as a result of the construction and operation of the proposed project under these general headings:

• geology and soils

• wetlands and waterbodies

• land use

• cultural resources

• vegetation and wildlife (including sensitive species)

• air and noise quality

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

Although no formal application has been filed, the FERC staff has already initiated its NEPA review under its Pre-filing Process. The purpose of the Pre-filing Process is to encourage the early involvement of interested stakeholders and to identify and resolve issues before an application is filed with the FERC. Once a formal application is filed with the FERC, a new docket number will be established.

Public Participation

You can make a difference by providing us with your specific comments or concerns about the project. By becoming a commentor, your concerns will be addressed in the EA and considered by the Commission. You should focus on the potential environmental effects of the proposal, reasonable alternatives to the proposal including alternative locations and routes, and measures to avoid or lessen environmental impact. The more specific your comments, the more useful they will be. Please carefully follow these instructions to ensure that your comments are received in time and properly recorded:

• Send an original and two copies of your letter to: Kimberley D. Bose, Secretary, Federal Energy Regulatory Commission, 888 First St. NE.; Room 1A, Washington, DC 20426.

• Label one copy of the comments for the attention of Gas Branch 1.

• Reference Docket No. PF07-11-000.

• Mail your comments so that they will be received in Washington, DC on or before February 4, 2008.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

We may mail the EA for comment. If you are interested in receiving it, please return the Information Request (Appendix 2). If you do not return the Information Request, you will be taken off the mailing list.

Once North Baja formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Additional Information

Additional information about the project is available from the Commission's Office of External Affairs, at 1-866-208-FERC or on the FERC Internet Web site (http://www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E8-395 Filed 1-11-08; 8:45 am]

BILLING CODE 6717-01-P